DEPARTMENT OF HEALTH AND HUMAN SERVICES

Health Resources and Services Administration

Implement Maternal, Infant, and Early Childhood Home Visiting Program 2022 Legislative Changes: Assessment of Administrative Burden; Correction

AGENCY: Health Resources and Services Administration, Department of Health and Human Services.

ACTION: Notice; correction.

SUMMARY: The Health Resources and Services Administration published a document in the Federal Register of May 28, 2024, concerning an Information Collection Request titled “Implement Maternal, Infant, and Early Childhood Home Visiting Program 2022 Legislative Changes: Assessment of Administrative Burden.” The document contained an incorrect “Total Estimated Annualized Burden Hours.” The published Federal Register Notice had an estimated average burden per response of 27 hours for the “State and Jurisdiction [Maternal, Infant, and Early Childhood Home Visiting (MIECHV)] Funding Recipient Survey,” with the total burden hours for the form being 1,512 hours. The published total estimated burden for the collection was 1,628 hours. This document corrects the estimate so that the average burden per response for the State and Jurisdiction MIECHV Funding Recipient Survey is 14 hours per response, 784 hours for the total estimated burden hours, and 900 hours for the collection.

FOR FURTHER INFORMATION CONTACT: Joella Roland, HRSA Information Collection Clearance Officer, at paperwork@hrsa.gov or call (301) 443-3983.

SUPPLEMENTARY INFORMATION:

Correction

In the Federal Register of May 28, 2024, FR Doc. 2024-46141, page 46142, “Total Estimated Annualized Burden Hours,” correct the “Average Burden Per Response (in hours)” column for the “State and Jurisdiction MIECHV Funding Recipient Survey” form to read 14 hours, “Total Burden Hours” column for the “State and Jurisdiction MIECHV Funding Recipient Survey” form to read 784 burden hours, and “Total Burden Hours” for the “Total” row to read 900 burden hours. The corrected “Total Estimated Annualized Burden Hours” table should be as follows:

Form name | Number of respondents | Number of responses per respondent | Total responses | Average burden per response (in hours) | Total burden hours
State and Jurisdiction MIECHV Funding Recipient Survey | 56 | 1 | 56 | 14 | 784
Tribal MIECHV Funding Recipient Survey | 29 | 1 | 29 | 4 | 116
Total | 85 |  | 85 |  | 900

Maria G. Button,
Director, Executive Secretariat.

[FR Doc. 2024-12957 Filed 6-12-24; 8:45 am]

BILLING CODE 4165-15-P